DEPARTMENT OF ENERGY

Federal Energy Regulatory Commission

Combined Notice of Filings #1

Take notice that the Commission received the following electric corporate filings:

Docket Numbers: EC11-99-000.

Applicants: Vermont Wind, LLC.

Description: Application of Vermont Wind, LLC for Authorization under FPA Section 203.

Filed Date: 07/29/2011.

Accession Number: 20110729-5174.

Comment Date: 5 p.m. Eastern Time on Friday, August 19, 2011.

Docket Numbers: EC11-100-000.

Applicants: PEI Power II, LLC, PEI Power Corporation.

Description: Application of PEI Power Corporation and PEI Power II, LLC under Section 203 of the Federal Power Act.

Filed Date: 07/29/2011.

Accession Number: 20110729-5179.

Comment Date: 5 p.m. Eastern Time on Friday, August 19, 2011.

Take notice that the Commission received the following electric rate filings:

Docket Numbers: ER11-1994-002.

Applicants: Westar Energy, Inc.

Description: Westar Energy, Inc. submits tariff filing per 35: Compliance Filing, City of Herington, KS, Rate Schedule WTU-012011 to be effective 1/1/2011.

Filed Date: 07/28/2011.

Accession Number: 20110728-5158.

Comment Date: 5 p.m. Eastern Time on Thursday, August 18, 2011.

Docket Numbers: ER11-3460-002.

Applicants: Bayonne Energy Center, LLC.

Description: Bayonne Energy Center, LLC submits tariff filing per 35: MBR Tariff Compliance Filing under Dockets ER11-3460-000 and ER11-3460-001 to be effective 4/28/2011.

Filed Date: 07/29/2011.

Accession Number: 20110729-5105.

Comment Date: 5 p.m. Eastern Time on Friday, August 19, 2011.

Docket Numbers: ER11-3463-000.

Applicants: Pacific Gas and Electric Company.

Description: Pacific Gas and Electric Company submits tariff filing per 35.19a(b): Compliance Refund Report for CCSF 33rd Quarterly Filing to be effective N/A.

Filed Date: 07/25/2011.

Accession Number: 20110725-5084.

Comment Date: 5 p.m. Eastern Time on Monday, August 15, 2011.

Docket Numbers: ER11-3748-001.

Applicants: CES Placerita, Incorporated.

Description: CES Placerita, Incorporated submits tariff filing per 35.17(b): Amendment to Market-Based Rate Tariff Under Docket ER11-3748 to be effective 3/24/2011.

Filed Date: 07/29/2011.

Accession Number: 20110729-5140.

Comment Date: 5 p.m. Eastern Time on Friday, August 19, 2011.

Docket Numbers: ER11-4140-000.

Applicants: New York Independent System Operator, Inc., Niagara Mohawk Power Corporation.

Description: New York Independent System Operator, Inc. submits tariff filing per 35.13(a)(2)(iii: SGIA Between Niagara Mohawk and WM Renewable Energy to be effective 6/23/2011.

Filed Date: 07/29/2011.

Accession Number: 20110729-5080.

Comment Date: 5 p.m. Eastern Time on Friday, August 19, 2011.

Docket Numbers: ER11-4142-000.

Applicants: Nevada Power Company.

Description: Nevada Power Company submits tariff filing per 35.13(a)(2)(iii: Rate Schedule No. 122 Concurrence in So CA Edison Rate Schedule No. 488 to be effective 7/14/2011.

Filed Date: 07/29/2011.

Accession Number: 20110729-5131.

Comment Date: 5 p.m. Eastern Time on Friday, August 19, 2011.

Docket Numbers: ER11-4143-000.

Applicants: PJM Interconnection, LLC.

Description: PJM Interconnection, LLC submits tariff filing per 35.13(a)(2)(iii: Revisions to PJM Tariff Attachment DD Section 10B to be effective 9/17/2010.

Filed Date: 07/29/2011.

Accession Number: 20110729-5139.

Comment Date: 5 p.m. Eastern Time on Friday, August 19, 2011.

Docket Numbers: ER11-4144-000.

Applicants: ITC Midwest LLC.

Description: ITC Midwest LLC submits tariff filing per 35.1: Filing of Joint Pole Use Agreement to be effective 9/29/2011.

Filed Date: 07/29/2011.

Accession Number: 20110729-5150.

Comment Date: 5 p.m. Eastern Time on Friday, August 19, 2011.

Docket Numbers: ER11-4145-000.

Applicants: ITC Midwest LLC.

Description: ITC Midwest LLC submits tariff filing per 35.13(a)(1): Filing of Equipment Removal Agreement to be effective 9/29/2011.

Filed Date: 07/29/2011.

Accession Number: 20110729-5151.

Comment Date: 5 p.m. Eastern Time on Friday, August 19, 2011.

Docket Numbers: ER11-4146-000.

Applicants: ITC Midwest LLC.

Description: ITC Midwest LLC submits tariff filing per 35.13(a)(1): Filing of Transmission Upgrade Agreement to be effective 9/29/2011.

Filed Date: 07/29/2011.

Accession Number: 20110729-5171.

Comment Date: 5 p.m. Eastern Time on Friday, August 19, 2011.

Docket Numbers: ER11-4147-000.

Applicants: ITC Midwest LLC.

Description: ITC Midwest LLC submits tariff filing per 35.13(a)(1): Filing of Transmission Upgrade Agreement to be effective 9/29/2011.

Filed Date: 07/29/2011.

Accession Number: 20110729-5181.

Comment Date: 5 p.m. Eastern Time on Friday, August 19, 2011.

Docket Numbers: ER11-4148-000.

Applicants: Southwest Power Pool, Inc.

Description: Southwest Power Pool, Inc. submits tariff filing per 35.13(a)(2)(iii: 1636R3 Kansas Electric Power Cooperative, Inc. NITSA NOA to be effective 6/1/2011.

Filed Date: 07/29/2011.

Accession Number: 20110729-5186.

Comment Date: 5 p.m. Eastern Time on Friday, August 19, 2011.

Docket Numbers: ER11-4149-000.

Applicants: ITC Midwest LLC.

Description: ITC Midwest LLC submits tariff filing per 35.13(a)(1): Filing of Construction Agreement to be effective 9/29/2011.

Filed Date: 07/29/2011.

Accession Number: 20110729-5208.

Comment Date: 5 p.m. Eastern Time on Friday, August 19, 2011.

Docket Numbers: ER11-4150-000.

Applicants: Pacific Gas and Electric Company.

Description: Pacific Gas and Electric Company submits tariff filing per 35.13(a)(2)(iii: E&P Agreements under PG&E's Transmission Owner Tariff and Report to be effective 4/27/2010.

Filed Date: 07/29/2011.

Accession Number: 20110729-5209.

Comment Date: 5 p.m. Eastern Time on Friday, August 19, 2011.

Docket Numbers: ER11-4151-000.

Applicants: California Independent System Operator Corporation.

Description: California Independent System Operator Corporation submits tariff filing per 35.13(a)(2)(iii: 2011-07-29 CAISO's NRS-RA Amendment Filing to be effective 1/1/2012.

Filed Date: 07/29/2011.

Accession Number: 20110729-5211.

Comment Date: 5 p.m. Eastern Time on Friday, August 19, 2011.

Docket Numbers: ER11-4152-000.

Applicants: ITC Midwest LLC.

Description: ITC Midwest LLC submits tariff filing per 35.13(a)(1): Filing of Transmission Upgrade Agreement to be effective 9/29/2011.

Filed Date: 07/29/2011.

Accession Number: 20110729-5212.

Comment Date: 5 p.m. Eastern Time on Friday, August 19, 2011.

Docket Numbers: ER11-4153-000.

Applicants: ITC Midwest LLC.

Description: ITC Midwest LLC submits tariff filing per 35.13(a)(1): Filing of Transmission Upgrade Agreement to be effective 9/29/2011.

Filed Date: 07/29/2011.

Accession Number: 20110729-5214.

Comment Date: 5 p.m. Eastern Time on Friday, August 19, 2011.

Docket Numbers: ER11-4154-000.

Applicants: ITC Midwest LLC.

Description: ITC Midwest LLC submits tariff filing per 35.13(a)(1): Filing of Transmission Adjustment Agreement to be effective 9/29/2011.

Filed Date: 07/29/2011.

Accession Number: 20110729-5216.

Comment Date: 5 p.m. Eastern Time on Friday, August 19, 2011.

Docket Numbers: ER11-4155-000.

Applicants: Florida Power & Light Company.

Description: Florida Power & Light Company submits tariff filing per 35.13(a)(2)(iii: FPL and Seminole TSA 162 NTSA to be effective 8/22/2011.

Filed Date: 07/29/2011.

Accession Number: 20110729-5219.

Comment Date: 5 p.m. Eastern Time on Friday, August 19, 2011.

Docket Numbers: ER11-4156-000.

Applicants: ITC Midwest LLC.

Description: ITC Midwest LLC submits tariff filing per 35.13(a)(1): Filing of Transmission Relocation Agreement to be effective 9/29/2011.

Filed Date: 07/29/2011.

Accession Number: 20110729-5227.

Comment Date: 5 p.m. Eastern Time on Friday, August 19, 2011.

Docket Numbers: ER11-4157-000.

Applicants: Entergy Arkansas, Inc.

Description: Entergy Arkansas, Inc. submits tariff filing per 35.13(a)(2)(iii: Amended SRW IOA to be effective 9/27/2011.

Filed Date: 07/29/2011.

Accession Number: 20110729-5232.

Comment Date: 5 p.m. Eastern Time on Friday, August 19, 2011.

Docket Numbers: ER11-4158-000.

Applicants: Entergy Arkansas, Inc.

Description: Entergy Arkansas, Inc. submits tariff filing per 35.13(a)(2)(iii: Occidential Amended IOA to be effective 9/27/2011.

Filed Date: 07/29/2011.

Accession Number: 20110729-5234.

Comment Date: 5 p.m. Eastern Time on Friday, August 19, 2011.

Docket Numbers: ER11-4159-000.

Applicants: ITC Midwest LLC.

Description: ITC Midwest LLC submits tariff filing per 35.13(a)(1): Filing of Transmission Upgrade Agreement to be effective 9/29/2011.

Filed Date: 07/29/2011.

Accession Number: 20110729-5235.

Comment Date: 5 p.m. Eastern Time on Friday, August 19, 2011.

Docket Numbers: ER11-4160-000.

Applicants: ITC Midwest LLC.

Description: ITC Midwest LLC submits tariff filing per 35.13(a)(1): Filing of Transmission Upgrade Agreement to be effective 9/29/2011.

Filed Date: 07/29/2011.

Accession Number: 20110729-5238.

Comment Date: 5 p.m. Eastern Time on Friday, August 19, 2011.

Docket Numbers: ER11-4161-000.

Applicants: California Independent System Operator Corporation.

Description: California Independent System Operator Corporation submits tariff filing per 35.13(a)(2)(iii: 2011-07-29 Amendment to Modify Dynamic Transfer Provisions to be effective 11/1/2011.

Filed Date: 07/29/2011.

Accession Number: 20110729-5244.

Comment Date: 5 p.m. Eastern Time on Friday, August 19, 2011.

Docket Numbers: ER11-4162-000.

Applicants: Florida Power & Light Company.

Description: Florida Power & Light Company submits tariff filing per 35.13(a)(2)(iii: FPL and JEA RS 323 to be effective 9/27/2011.

Filed Date: 07/29/2011.

Accession Number: 20110729-5250.

Comment Date: 5 p.m. Eastern Time on Friday, August 19, 2011.

Docket Numbers: ER11-4163-000.

Applicants: New England Power Pool Participants Committee.

Description: New England Power Pool Participants Committee submits tariff filing per 35.13(a)(2)(iii: 124th Agreement to be effective 8/31/2011.

Filed Date: 07/29/2011.

Accession Number: 20110729-5252.

Comment Date: 5 p.m. Eastern Time on Friday, August 19, 2011.

Docket Numbers: ER11-4164-000.

Applicants: Westar Energy, Inc.

Description: Westar Energy, Inc. submits tariff filing per 35.13(a)(2)(iii: Herington, KS, Revision to Article I to be effective 10/1/2011.

Filed Date: 07/29/2011.

Accession Number: 20110729-5253.

Comment Date: 5 p.m. Eastern Time on Friday, August 19, 2011.

Take notice that the Commission received the following electric securities filings:

Docket Numbers: ES11-40-000.

Applicants: Entergy Mississippi, Inc., Entergy Arkansas, Inc., Entergy Louisiana, LLC, Entergy New Orleans, Inc., Entergy Gulf States Louisiana, LLC, System Energy Resources, Inc., Entergy Texas, Inc.

Description: Application of Entergy Services, Inc., on Behalf of Entergy Arkansas, Inc., et al. for FPA Section 204 Authorization.

Filed Date: 07/28/2011.

Accession Number: 20110728-5199.

Comment Date: 5 p.m. Eastern Time on Thursday, August 18, 2011.

Docket Numbers: ES11-41-000.

Applicants: ITC Midwest LLC.

Description: Application of ITC Midwest LLC under Section 204 of the Federal Power Act and Part 34 of the Commission's Regulations.

Filed Date: 07/29/2011.

Accession Number: 20110729-5270.

Comment Date: 5 p.m. Eastern Time on Friday, August 19, 2011.

Take notice that the Commission received the following land acquisition reports:

Docket Numbers: LA11-2-000.

Applicants: ORNI 18 LLC.

Description: Quarterly Land Acquisition Report of ORNI 18 LLC.

Filed Date: 07/29/2011.

Accession Number: 20110729-5092.

Comment Date: 5 p.m. Eastern Time on Friday, August 19, 2011.

Docket Numbers: LA11-2-000.

Applicants: Niagara Generation LLC.

Description: Land Acquisition Report of Niagara Generation, LLC.

Filed Date: 07/29/2011.

Accession Number: 20110729-5255.

Comment Date: 5 p.m. Eastern Time on Friday, August 19, 2011.

Docket Numbers: LA11-2-000.

Applicants: San Diego Gas & Electric Company, Cedar Creek II, LLC, El Dorado Energy, LLC, Fowler Ridge II Wind Farm, LLC, Mesquite Power, LLC, Sempra Energy Trading LLC, Sempra Generation, Termoelectrica U.S., LLC.

Description: Land Acquisition Report/Form of San Diego Gas & Electric Company, et al.

Filed Date: 07/29/2011.

Accession Number: 20110729-5272.

Comment Date: 5 p.m. Eastern Time on Friday, August 19, 2011.

Take notice that the Commission received the following public utility holding company filings:

Docket Numbers: PH11-18-000.

Applicants: Mitsubishi UFJ Financial Group, Inc.

Description: Application of Mitsubishi UFJ Financial Group, Inc.

Filed Date: 07/29/2011.

Accession Number: 20110729-5097.

Comment Date: 5 p.m. Eastern Time on Friday, August 19, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: August 1, 2011.
Kimberly D. Bose,
Secretary.

[FR Doc. 2011-19936 Filed 8-4-11; 8:45 am]

BILLING CODE 6717-01-P